DEPARTMENT OF THE INTERIOR

Fish and Wildlife Service

[FWS-R8-ES-2022-N080; FXES11130800000-234-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before February 13, 2023.

ADDRESSES:

Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations (CFR) at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
009018 | California Botanic Garden, Claremont, California | • Franciscan manzanita (Arctostaphylos franciscana) • Applegate's milk-vetch (Astragalus applegatei). • Vandenberg monkeyflower (Diplacus vandenbergensis). • Steamboat buckwheat (Eriogonum ovalifolium var. williamsiae). • Tiehm's buckwheat (Eriogonum tiehmii). • Gentner's fritillary (Fritillaria gentneri). | CA, NV, OR | Remove/reduce to possession from lands under Federal jurisdiction, collect herbarium and genetic samples, carry out establishment and maintenance of a living collection or seed bank, conduct propagation, conduct pollination, and do genetic research | Renew with changes.
PER0040606 | Benjamin Carter, San Jose, California | • Menzies' wallflower (Erysimum menziesii) • Contra Costa wallflower (Erysimum capitatum var. angustatum). | CA | Remove/reduce to possession from lands under Federal jurisdiction, collect herbarium and genetic samples | New.
128462 | Jonathan Feenstra, Altadena, California | • Southwestern willow flycatcher (Empidonax traillii extimus) | CA | Play recorded vocalizations | Renew.
179036 | Cullen Wilkerson, Richmond, California | • San Francisco garter snake (Thamnophis sirtalis tetrataenia) | CA | Survey, capture, handle, and release | Renew.
092469 | Ingrid Eich, Fullerton, California | • Conservancy fairy shrimp (Branchinecta conservatio) • Longhorn fairy shrimp (Branchinecta longiantenna). • Vernal pool tadpole shrimp (Lepidurus packardi). | CA | Survey, capture, handle, release, collect adult vouchers, and collect branchiopod cysts | Renew.
|  | • Riverside fairy shrimp (Streptocephalus woottoni).
|  | • San Diego fairy shrimp (Branchinecta sandiegonensis)
045994 | U.S. Geological Survey Western Ecological Research Center, San Diego, California | • Mountain yellow-legged frog (Rana muscosa), Southern California Distinct Population Segment • Arroyo (=arroyo southwestern) toad (Anaxyrus californicus). | CA | Relocate adults, collect tissue | Amend.
20513C | Katherine McLean, Concord, California | • California tiger salamander (Ambystoma californiense), Sonoma County and Santa Barbara County Distinct Population Segments | CA | Survey, capture, handle, release | Renew.
054120 | Russell Huddleston, San Francisco, California | • California tiger salamander (Ambystoma californiense), Sonoma County and Santa Barbara County Distinct Population Segments | CA | Aquatic survey, capture, handle, release | Renew.
072650 | Jennifer Michaud-Laird, Sebastopol, California | • California tiger salamander (Ambystoma californiense), Sonoma County Distinct Population Segment | CA | Survey, capture, handle, release | Renew.
|  | • California freshwater shrimp (Syncaris pacifica).
02481D | Anna Touchstone, San Diego, California | • Conservancy fairy shrimp (Branchinecta conservatio) • Longhorn fairy shrimp (Branchinecta longiantenna). • Vernal pool tadpole shrimp (Lepidurus packardi). • Riverside fairy shrimp (Streptocephalus woottoni). | CA | Survey, capture, handle, release, collect adult vouchers, and collect branchiopod cysts | Amend.
|  | • San Diego fairy shrimp (Branchinecta sandiegonensis).
022183 | Los Angeles World Airports, Los Angeles, California | • El Segundo blue butterfly (Euphilotes battoides allyni) | CA | Pursue, conduct habitat monitoring and management activities, and collect seed and cuttings from host plant | Renew.
PER0121456-0 | Tara Collins, Penryn, California | • Conservancy fairy shrimp (Branchinecta conservatio) • Longhorn fairy shrimp (Branchinecta longiantenna). • Vernal pool tadpole shrimp (Lepidurus packardi). • Riverside fairy shrimp (Streptocephalus woottoni). | CA | Survey, capture, handle, release, collect adult vouchers, and collect branchiopod cysts | New.
|  | • San Diego fairy shrimp (Branchinecta sandiegonensis).
PER0121458 | Donald Hardeman Jr., Cedar Hill, Texas | • Conservancy fairy shrimp (Branchinecta conservatio) • Longhorn fairy shrimp (Branchinecta longiantenna). • Vernal pool tadpole shrimp (Lepidurus packardi). | CA | Survey, capture, handle, release, and collect adult vouchers | New.
|  | • Riverside fairy shrimp (Streptocephalus woottoni).
|  | • San Diego fairy shrimp (Branchinecta sandiegonensis).
PER0121617 | Kyle Wear, Arcata, California | • Lotis blue butterfly (Lycaeides argyrognomon lotis) • Behren's silverspot butterfly (Speyeria zerene behrensii). | CA | Pursue | New.
212445 | Robert Schell, San Raphael, California | • Conservancy fairy shrimp (Branchinecta conservatio) • Longhorn fairy shrimp (Branchinecta longiantenna). • Vernal pool tadpole shrimp (Lepidurus packardi). • Riverside fairy shrimp (Streptocephalus woottoni). • San Diego fairy shrimp (Branchinecta sandiegonensis). | CA | Survey, capture, handle, measure, collect genetic samples, translocate, release, collect adult vouchers, and collect branchiopod cysts | Renew and amend.
|  | • California tiger salamander (Ambystoma californiense), Sonoma County and Santa Barbara County Distinct Population Segments.
793645 | Donald Alley, Brookdale, California | • Tidewater goby (Eucyclogobius newberryi) | CA | Survey, capture, handle, and release | Renew.
86378B | Thomas Gast & Associates Environmental Consultants, Arcata, California | • Tidewater goby (Eucyclogobius newberryi) | CA | Survey, capture, handle, and release | Renew.
54716A | Christine Harvey, San Diego, California | • Southwestern willow flycatcher (Empidonax traillii extimus) | CA | Play recorded vocalizations | Renew.
221294 | Michael Galloway, San Diego, California | • Riverside fairy shrimp (Streptocephalus woottoni) • San Diego fairy shrimp (Branchinecta sandiegonensis). • Quino checkerspot butterfly (Euphydryas editha quino). | CA | Survey, pursue, capture, handle, release, collect adult vouchers, and collect branchiopod cysts | Renew.
PER0211375 | Britney Schultz, Palm Desert, California | • Casey's June Beetle (Dinacoma caseyi) | CA | Pursue, handle, and light trap | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Susan Tharratt,
Acting Regional Ecological Services Program Manager, Pacific Southwest Region, Sacramento, California.

[FR Doc. 2023-00577 Filed 1-12-23; 8:45 am]

BILLING CODE 4333-15-P